DEPARTMENT OF JUSTICE

Notice of Lodging of Consent Decree Under the Comprehensive Environmental Response, Compensation And Liability Act (“CERCLA”)

Notice is hereby given that on August 1, 2013, a proposed Consent Decree (“proposed Decree”) in United States v. Richard Wilmer and Rock Weiss, Civil Action No. 11-cv-02244-RM-MJW was lodged with the United States District Court for the District of Colorado.

In this action under Section 107(a) of the Comprehensive Environmental Response, Compensation, and Liability Act, 42 U.S.C. 9607(a) (“CERCLA”), the United States sought reimbursement of response costs incurred or to be incurred for response actions taken at or in connection with the release or threatened release of hazardous substances at the Cherokee Street Print Shop Wastes Superfund Site (“Site”) located at 4411 Cherokee Street in Denver, Colorado. The proposed Decree requires Settling Defendant Rock Weiss to pay $600 to the United States in reimbursement of response costs. Settling Defendant Rock Weiss has an inability to pay the United States' full demand.

The publication of this notice opens a period for public comment on the proposed Decree. Comments should be addressed to the Assistant Attorney General, Environment and Natural Resources Division, and should refer to United States v. Richard Wilmer, et al., D.J. Ref. No. 90-11-3-10179. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the proposed Decree may be examined and downloaded at this Justice Department Web site: http://www.usdoj.gov/enrd/Consent_Decrees.html. We will provide a paper copy of the proposed Decree upon written request and payment of reproduction costs. Please mail your request and payment to: Consent Decree Library, U.S. DOJ—ENRD, P.O. Box 7611, Washington, DC 20044-7611.

Please enclose a check or money order for $6.25 (.25 cents per page reproduction cost) payable to the United States Treasury.

Robert Brook,
Assistant Section Chief, Environmental Enforcement Section, Environment and Natural Resources Division.

[FR Doc. 2013-19022 Filed 8-6-13; 8:45 am]

BILLING CODE 4410-15-P